DEPARTMENT OF LABOR

Employment and Training Administration

[TA-W-54,242 and TA-W-54,242A]

Badger Paper Mills, Inc., Pestigo, WI, and Oconto Falls, WI; Amended Certification Regarding Eligibility to Apply for Worker Adjustment Assistance and Alternative Trade Adjustment Assistance

In accordance with section 223 of the Trade Act of 1974 (19 U.S.C. 2273), and section 246 of the Trade Act of 1974 (26 U.S.C. 2813), as amended, the Department of Labor issued a split determination regarding workers' eligibility to apply for benefits available under the Trade Adjustment Assistance (TAA) Program. On March 22, 2004, the Department certified workers of Badger Paper Mills, Inc., Peshtigo, Wisconsin as eligible to apply for TAA but not Alternative Trade Adjustment Assistance (ATAA). The Department's Notice was published in the Federal Register on May 24, 2004 (69 FR 29578). On May 25, 2004, a Revised Determination on Reconsideration regarding the workers' eligibility to apply for ATAA was issued. The Department's Notice was published in the Federal Register on June 8, 2004 (69 FR 32046).

At the request of a company official, the Department reviewed the certification for workers of the subject firm. The company official stated that the petition was intended to cover workers at the Peshtigo and Oconto Falls, Wisconsin facilities.

Information provided by the company official reveals that a significant proportion of workers at the Oconto Falls, Wisconsin facility were separated or threatened with separation during the relevant period and that the two Badger Paper Mills facilities operate as one manufacturing unit producing paper products. Further, new information provided by the company official reveal that a significant portion of workers at the Oconto Falls, Wisconsin facility are age fifty years or older, that workers possess skills which are not easily transferable to other jobs in the local area, and that conditions in the industry are adverse.

Based on these findings, the Department is amending this certification to include employees of Badger Paper Mills, Inc., Oconto Falls, Wisconsin.

The amended notice applicable to TA-W-54,242 is hereby issued as follows:

All workers of Badger Paper Mills, Inc., Peshtigo, Wisconsin (TA-W-54,242) and Badger Paper Mills, Inc., Oconto Falls, Wisconsin (TA-W-54,242A) who became totally or partially separated from employment on or after February 9, 2003, through March 22, 2006, are eligible to apply for adjustment assistance under section 223 of the Trade Act of 1974, are also eligible to apply for alternative trade adjustment assistance under section 246 of the Trade Act of 1974.

Signed at Washington, DC, this 6th day of March 2006.
Richard Church,
Certifying Officer, Division of Trade Adjustment Assistance.

[FR Doc. E6-4139 Filed 3-21-06; 8:45 am]

BILLING CODE 4510-30-P